SMALL BUSINESS ADMINISTRATION

[Disaster Declaration # 10209 and # 10210]

Florida Disaster # FL-00008

AGENCY: Small Business Administration.

ACTION: Notice.

SUMMARY: This is a notice of an Administrative declaration of a disaster for the State of Florida dated October 4, 2005.

Incident: Severe Storms and Flooding.

Incident Period: July 29, 2005 through August 14, 2005.

Effective Date: October 4, 2005.

Physical Loan Application Deadline Date: December 5, 2005.

EIDL Loan Application Deadline Date: July 5, 2006.

ADDRESSES: Submit completed loan applications to: Small Business Administration, Processing and Disbursement Center, 14925 Kingsport Road, Fort Worth, TX 76155.

FOR FURTHER INFORMATION CONTACT: A. Escobar, Office of Disaster Assistance, U.S. Small Business Administration, 409 3rd Street, Suite 6050, Washington, DC 20416.

SUPPLEMENTARY INFORMATION: Notice is hereby given that as a result of the Administrator's disaster declaration applications for disaster loans may be filed at the address listed above or other locally announced locations.

The following areas have been determined to be adversely affected by the disaster:

Primary Counties:

Polk

Contiguous Counties: Florida

Hardee, Highlands, Hillsborough, Lake, Manatee, Okeechobee, Orange, Osceola, Pasco, Sumter.

The Interest Rates are:

—
| Percent
Homeowners with Credit Available Elsewhere | 5.750
Homeowners without Credit Available Elsewhere | 2.875
Businesses with Credit Available Elsewhere | 6.387
Businesses & Small Agricultural Cooperatives without Credit Available Elsewhere | 4.000
Other (Including Non-Profit Organizations) with Credit Available Elsewhere | 4.750
Businesses and Non-Profit Organizations without Credit Available Elsewhere | 4.000

The number assigned to this disaster for physical damage is 10209 6 and for economic injury is 10210 0.

The States which received an EIDL Declaration # are FLORIDA.

(Catalog of Federal Domestic Assistance Numbers 59002 and 59008)

Dated: October 4, 2005.
Hector V. Barreto,
Administrator.

[FR Doc. 05-20728 Filed 10-17-05; 8:45 am]

BILLING CODE 8025-01-P